DEPARTMENT OF COMMERCE

Economics and Statistics Administration

Census Advisory Committees

AGENCY: Economics and Statistics Administration, Department of Commerce.

ACTION: Notice of public meeting.

SUMMARY: Pursuant to the Federal Advisory Committee Act, (Pub. L. 92-463, as amended by Pub. L. 94-409, Pub. L. 96-523, and Pub. L. 97-375), we are giving notice of a joint meeting of the 2000 Census Advisory Committee (CAC), the CAC of Professional Associations, the CAC on the African American Population, the CAC on the American Indian and Alaska Native Populations, the CAC on the Asian Population, the CAC on the Native Hawaiian and Other Pacific Islander Populations, and the CAC on the Hispanic Population. The meeting will be primarily an informational meeting focusing on the American Community Survey and planning for the 2010 decennial census. Participants also will discuss the status of Census 2000 activities and share their experiences as they relate to the American Community Survey (ACS) and 2010 census planning. Last minute changes to the schedule are possible, and they could prevent us from giving advance notice.

DATES: On Friday, July 28, 2000, the meeting will begin at 8:30 a.m. and adjourn at approximately 5:15 p.m.

ADDRESSES: The meeting will take place at the Doubletree Hotel, 300 Army Navy Drive, Arlington, VA.

FOR FURTHER INFORMATION CONTACT: Maxine Anderson-Brown, Committee Liaison Officer, Department of Commerce, U.S. Census Bureau, Room 1647, Federal Building 3, Washington, DC 20233, telephone: 301-457-2308.

SUPPLEMENTARY INFORMATION: The CACs on the African American Population, American Indian and Alaska Native Populations, the Asian Population, the Native Hawaiian and Other Pacific Islander Populations, and the Hispanic Population are composed of nine members each, appointed by the Secretary of Commerce. The Committees provide an organized and continuing channel of communication between the communities they represent and the Bureau of the Census on its effort to reduce the differential undercount for Census 2000, and on research, technological, and policy issues related to the 2010 decennial census, the ACS, and related programs.

The CAC of Professional Associations is composed of 36 members appointed by the Presidents of the American Economic Association, the American Statistical Association, the Population Association of America, and the Chairman of the Board of the American Marketing Association. The Committee advises the Director, Bureau of the Census, on the full range of Census Bureau programs and activities in relation to its area of expertise.

The 2000 Census Advisory Committee is composed of a Chair, Vice Chair, and up to 40 member organizations, all appointed by the Secretary of Commerce. The Advisory Committee considers the goals of Census 2000 and user needs for information provided by that census. The Committee provides an outside user perspective about how operational planning and implementation methods for Census 2000 are realizing the overall goals of achieving an accurate count during Census 2000. The Advisory Committee considers all aspects of Census 2000 and advises the Secretary of Commerce on its findings.

A brief period will be set aside at the meeting for public comment. However, individuals with extensive statements for the record must submit them in writing to the Commerce Department official named above at least three working days prior to the meeting.

The meeting is physically accessible to people with disabilities. Requests for sign language interpretation or other auxiliary aids should be directed to the Census Bureau Committee Liaison Officer on 301-457-2308, TDD 301-457-2540.

Dated: June 27, 2000.
Robert J. Shapiro,
Under Secretary for Economic Affairs, Economics and Statistics Administration.

[FR Doc. 00-16806 Filed 7-3-00; 8:45 am]

BILLING CODE 3510-07-M